DEPARTMENT OF THE INTERIOR

Bureau of Land Management

[BLM_AK_FRN_MO4500180306]

Notice of Availability of the ANCSA 17(d)(1) Withdrawals Final Environmental Impact Statement, Alaska

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Alaska Native Claims Settlement Act (ANCSA) 17(d)(1) Withdrawals Final Environmental Impact Statement (EIS). The BLM held public meetings on the Draft EIS and subsistence-related hearings to receive comments on the Draft EIS and the project's potential to impact subsistence resources and activities. The Final EIS considers those comments.

DATES: The BLM will publish the Record of Decision for the project no earlier than 30 days following the date the Environmental Protection Agency publishes its Notice of Availability of the Final EIS in the Federal Register.

ADDRESSES: The Final EIS and documents pertinent to this proposal are available for review on the BLM ePlanning project website at https://eplanning.blm.gov/eplanning-ui/project/2018002/510, and in-person at the BLM Anchorage Field Office, and at the BLM Alaska State Office, BLM Alaska Public Information Center.

FOR FURTHER INFORMATION CONTACT: Racheal Jones, BLM Project Manager, telephone (907) 290-0307; address ANCSA 17(d)(1) EIS, BLM Anchorage District Office, Attn: Racheal Jones, 4700 BLM Road, Anchorage, Alaska 99507; email rajones@blm.gov. Individuals in the United States who are deaf, blind, hard of hearing, or have a speech disability may dial 711 (TTY, TDD, or TeleBraille) to access telecommunications relay services for contacting Ms. Jones. Individuals outside the United States should use the relay services offered within their country to make international calls to the point-of-contact in the United States.

SUPPLEMENTARY INFORMATION: The U.S. Department of the Interior (DOI), BLM Alaska State Office, prepared this EIS to evaluate the effects of any Secretarial decision to revoke withdrawals established following enactment of ANCSA Section 17(d)(1) affecting the lands described in Public Land Order (PLO) Nos. 7899 through 7903. The potential revocation of these 17(d)(1) withdrawals is hereafter referred to as the 2021 Action. PLO Nos. 7900, 7901, 7902, and 7903, which would revoke withdrawals on lands in the Ring of Fire, Bay, Bering Sea-Western Interior, and East Alaska planning areas, respectively, were signed on January 15 and 16, 2021; however, they were never published in the Federal Register. PLO No. 7899, which would revoke withdrawals on lands in the Kobuk-Seward Peninsula planning area, was signed on January 11, 2021, and published in the Federal Register on January 19, 2021 (86 FR 5236). Subsequently, the DOI identified certain procedural and legal defects in the decision-making process for these PLOs, as described in the April 16, 2021, Federal Register notice (86 FR 20193), including insufficient analysis under NEPA. The DOI extended the opening order for PLO No. 7899 until August 31, 2024, to provide an opportunity to review the decision and to ensure the orderly management of the public lands (88 FR 21207). The BLM used this time to address identified deficiencies and to update the NEPA analysis.

The 2021 Action under review is revocation of the ANCSA 17(d)(1) withdrawals as described in PLO No. 7899, 7900, 7901, 7902, and 7903, affecting approximately 28 million acres in total. This EIS evaluates the resource conditions on these lands and incorporates and describes additional coordination with other Federal agencies; State and local governments; Federally recognized Tribes; Alaska Native Corporations; and other stakeholders to ensure that the environmental analyses previously conducted are updated and expanded upon as appropriate. This additional analysis is necessary to ensure display of the impacts of revocation of the ANCSA 17(d)(1) withdrawals; to correct errors in the previous decision-making process regarding these withdrawals; and to ensure that opening these lands is consistent with the purposes of ANCSA 17(d)(1), which requires that “the public interest in these lands is properly protected,” including factors such as subsistence hunting and fishing, habitat connectivity, protection of cultural resources, and protection of threatened and endangered species. This evaluation is needed to make an informed public interest determination to support revocation in full, revocation in part, or retention in full of the ANCSA 17(d)(1) withdrawals.

The BLM considered alternatives that represent retention or revocation of the 17(d)(1) withdrawals and different configurations of the areas affected in each of the five planning areas (Bay, Bering Sea-Western Interior, East Alaska, Kobuk-Seward, and Ring of Fire). Each of the alternatives identifies 17(d)(1) withdrawals in the five planning areas as retained or revoked. The alternatives range from retaining the withdrawals on all lands (Alternative A) to revoking the withdrawals on all lands (Alternative D). Alternatives B and C include partial revocations based on natural resource factors. Full or partial revocation of the ANCSA 17(d)(1) withdrawals would result in changes to land use that could affect local residents, wildlife, vegetation, cultural resources, subsistence, and recreation. No development plans have been submitted, and no stipulations are attached to selected lands that would prevent any specific development from taking place. Therefore, the EIS provides a reasonably foreseeable development scenario that identifies and quantifies potential development activity in the decision area, including the extraction of leasable, locatable, and salable minerals, as well as the establishment of associated rights-of-way, assuming the land is not withdrawn from availability for such activities.

Section 810 of the Alaska National Interest Lands Conservation Act (ANILCA) requires the BLM to evaluate the effects of the alternatives presented in the Final EIS on subsistence uses and needs and to hold public hearings if it finds that any alternative may significantly restrict subsistence uses.

The BLM found in the evaluation of subsistence impacts that Alternatives B, C, or D, in combination with the cumulative case as analyzed in the Draft EIS, may significantly restrict subsistence uses in many communities. Therefore, the BLM held public hearings on subsistence resources and activities in conjunction with the public meetings on the Draft EIS in the vicinity of potentially affected communities. In consideration of public comments received on the Draft EIS and at the public hearings, the BLM revised the ANILCA Section 810 evaluation, published as Appendix C of the Final EIS, but did not change its “may significantly restrict subsistence uses” findings for the identified communities.

The input of Alaska Native Tribes and Corporations is of critical importance to this EIS. Therefore, during the NEPA process, the BLM consulted with potentially affected Federally recognized Tribes on a government-to-government basis, and with affected Alaska Native Corporations in accordance with Executive Order 13175, as well as Public Law 108-199, Div. H, sec. 161, 118 Stat. 452, as amended by Public Law 108-447, Div. H, sec. 518, 118 Stat. 3267, and other Department and Bureau policies.

(Authority: 40 CFR 1506.6(b))

Steven M. Cohn,
State Director.

[FR Doc. 2024-14658 Filed 7-3-24; 8:45 am]

BILLING CODE 4331-10-P